DEPARTMENT OF COMMERCE

National Oceanic and Atmospheric Administration

RIN 0648-XH64

Endangered Species; File No. 1614-01

AGENCY: National Marine Fisheries Service (NMFS), National Oceanic and Atmospheric Administration (NOAA), Commerce.

ACTION: Notice; issuance of permit modification.

SUMMARY: Notice is hereby given that the NOAA Fisheries Northeast Region Protected Resources Division (Responsible Party: Mary Colligan), One Blackburn Drive, Gloucester, MA 01930, has been issued a modification to scientific research Permit No. 1614.

ADDRESSES: The modification and related documents are available for review upon written request or by appointment in the following offices:

Permits, Conservation and Education Division, Office of Protected Resources, NMFS, 1315 East-West Highway, Room 13705, Silver Spring, MD 20910; phone (301)713-2289; fax (301)427-2521;

Northeast Region, NMFS, One Blackburn Drive, Gloucester, MA 01930-2298; phone (978)281-9300; fax (978)281-9394; and

Southeast Region, NMFS, 263 13th Ave South, St. Petersburg, FL 33701; phone (727)824-5312; fax (727)824-5309.

FOR FURTHER INFORMATION CONTACT: Brandy Belmas or Jennifer Skidmore, (301)713-2289.

SUPPLEMENTARY INFORMATION: On March 25, 2008, notice was published in the Federal Register (73 FR 15741) that a modification of Permit No. 1614, issued February 28, 2008 (73 FR 11873), had been requested by the above-named organization. The requested modification has been granted under the authority of the Endangered Species Act of 1973, as amended (ESA; 16 U.S.C. 1531 et seq.) and the regulations governing the taking, importing, and exporting of endangered and threatened species (50 CFR 222-226).

In addition to all activities authorized under Permit No. 1614, this modification increases the number of dead, captive bred shortnose sturgeon (Acipenser brevirostrum) received from authorized U.S. facilities up to 350 individuals each year. Obtaining these additional sturgeon will aid researchers in meeting their research objectives, which include reviewing shortnose sturgeon research procedures and developing necropsy protocols.

Issuance of this modification, as required by the ESA was based on a finding that such permit (1) was applied for in good faith, (2) will not operate to the disadvantage of such endangered or threatened species, and (3) is consistent with the purposes and policies set forth in section 2 of the ESA.

Dated: May 2, 2008.
P. Michael Payne,
Chief, Permits, Conservation and Education Division, Office of Protected Resources, National Marine Fisheries Service.

[FR Doc. E8-10108 Filed 5-6-08; 8:45 am]

BILLING CODE 3510-22-S